DEPARTMENT OF HOMELAND SECURITY

Federal Emergency Management Agency

RIN 1660-ZA05

Privacy Act Systems of Records; Amendment to Existing Routine Uses

AGENCY: Federal Emergency Management Agency (FEMA), Emergency Preparedness and Response Directorate, Department of Homeland Security (DHS).

ACTION: Notice of amendment to routine uses.

SUMMARY: In compliance with the requirements of the Privacy Act of 1974, as amended, FEMA gives notice that it intends to rename its system of records notice for FEMA/REG-2, Disaster Recovery Assistance Files, to acknowledge in the nomenclature that it is now part of DHS, that it proposes to revise the existing routine uses for this system to allow information sharing with voluntary agencies actively working in the open disaster and that it proposes to add new routine uses to provide notice about routine management and oversight information sharing. In addition, to reduce the burden on the public applying for disaster assistance, FEMA has proposed to allow the registration process to be done by individuals electronically over the Internet and is therefore revising its system notice to account for electronic records.

EFFECTIVE DATE: The amended system of records will be effective December 15, 2004, unless comments are received that result in a contrary determination. The amended system of records will be applicable to major disaster or emergencies declared on or after August 13, 2004, unless comments are received that result in a contrary determination.

ADDRESSES: You may submit comments, identified by EPA DOCKET NUMBER DHS-2004-0014 and/or 1660-ZA05 by one of the following methods:

• EPA Federal Partner EDOCKET Web Site: http://www.epa.gov/feddocket. Follow instructions for submitting comments on the Web site. DHS has joined the Environmental Protection Electronic Docket System (Partner EDOCKET). DHS and its agencies (excluding the United States Coast Guard (USCG) and Transportation Security Administration (TSA)) will use the EPA Federal Partner EDOCKET system. The USCG and TSA [legacy Department of Transportation (DOT) agencies] will continue to use the DOT Docket Management System until full migration to the electronic rulemaking federal docket management system occurs in 2005.

• Federal e-Rulemaking Portal: http://www.regulations.gov. Follow the instructions for submitting comments.

• Fax: (202) 646-4536.

• Mail: Rules Docket Clerk, Federal Emergency Management Agency, Office of General Counsel, room 840, 500 C Street SW., Washington, DC 20472.

FOR FURTHER INFORMATION CONTACT: Rena Y. Kim, Privacy Act Officer, Room 840, 500 C Street, SW., Washington, DC 20472; (telephone) (202) 646-3949, or (e-mail) Rena.Kim@dhs.gov.

SUPPLEMENTARY INFORMATION: Prior to March 1, 2003, FEMA was an independent agency within the Federal Government. While operating as an independent agency, FEMA published notices concerning its systems of records. The system at issue in this notice was last published on October 9, 2001. In compliance with the requirements of the Privacy Act of 1974, as amended, 5 U.S.C. 552a, FEMA gives notice that it intends to revise the routines uses and to add several new ones to its system of records entitled, FEMA/REG-2, Disaster Recovery Assistance Files. FEMA has amended the language in routine use (a) to allow information sharing with voluntary agencies actively working in the open disaster. FEMA also intends to add two new routine uses that allow for information sharing with other Federal and State agencies to enhance FEMA's ability to provide oversight and coordination of State activities and to ensure that the State performs and adheres to FEMA regulations and policy guidance. In addition, because FEMA became a part of DHS on March 1, 2003, FEMA is incorporating appropriate DHS routine uses as part of this system of records.

FEMA altered its system of records and provided a report as required by 5 U.S.C. 552a(r). This change is to amend the language of routine use (a). This amendment will not change the type or amount of information collected from individuals who apply for disaster assistance. Finally, this notice will make the public aware of routine management and oversight information sharing between FEMA and other Federal agencies, State and local governments, and contractors providing services in support of the Individual Assistance program. Routine uses (d), (e), (f), and (g) allow us to disclose information from this system of records to Federal, State, and local governments in the course of providing disaster assistance and in creating and implementing emergency evacuation plans. In addition, to reduce the burden on the public applying for disaster assistance, FEMA is now making the registration process available by an additional means—electronically via the Internet. In addition to filling out paper applications or calling in and applying over the telephone, individuals who wish to apply for disaster assistance can now also do so over the Internet.

Accordingly, FEMA amends the Disaster Recovery Assistance Files of the FEMA Privacy Act system of records to read as follows:

System Name:

Disaster Recovery Assistance Files.

System Location:

National Processing Service Centers (NPSC) located at FEMA MD-NPSC, 6505 Belcrest Road, Hyattsville, MD 20782; FEMA VA-NPSC, 19844 Blue Ridge Mountain Road, Bluemont, VA 20135; FEMA TX-NPSC, 3900 Karina Lane, Denton, TX 76208; and FEMA PR-NPSC, Carr 8860, KM 1.1 Bldg T-1429, Trujillo Alto, PR 00976.

Categories of Individuals Covered By the System:

Individuals who apply for disaster recovery assistance through three different mediums including: (a) Electronically via the Internet, (b) by calling FEMA's toll-free number, or (c) through the submission of a paper copy of FEMA Form 90-69 following Presidentially-declared major disasters or emergencies. Our proposed additional new method will allow applicants to apply for disaster recovery assistance over the Internet, and will reduce the paperwork burden on the public.

Categories of Records in the System:

(a) Records of registration for assistance (Form 90-69, Disaster Assistance Registration/Application) include individual applicants' names, addresses, telephone numbers, social security numbers, insurance coverage information, household size and composition, degree of damage incurred, income information, programs to which FEMA refers applicants for assistance, flood zones, location and height of high water level, and preliminary determinations of eligibility for disaster assistance.

(b) Inspection reports (Form 90-56, Inspection Report) contain individuals' identifying information and results of surveys of damaged real and personal property and goods, which may include individuals' homes and personal items.

(c) Temporary housing assistance eligibility determinations (Forms 90-11 through 90-13, 90-16, 90-22, 90-24 through 90-28, 90-31, 90-33, 90-41, 90-48, 90-57, 90-68 through 90-70, 90-71, 90-75 through 90-78, 90-82, 90-86, 90-87, 90-94 through 90-97, 90-99, and 90-101). These refer to approval and disapproval of temporary housing assistance and include: general correspondence, complaints, appeals and resolutions, requests for disbursement of payments, inquiries from tenants and landlords, general administrative and fiscal information, payment schedules and forms, termination notices, information shared with the temporary housing program staff from other agencies to prevent the duplication of benefits, leases, contracts, specifications for repair of disaster damaged residences, reasons for eviction or denial of aid, sales information after tenant purchase of housing units, and the status of disposition of applications for housing.

(d) Eligibility decisions for disaster aid from other Federal and State agencies (for example, the disaster loan program administered by the Small Business Administration, and disaster aid decisions of the State-administered Individual and Family Grants (IFG) and its successor program, Other Needs Assistance (ONA)) as they relate to determinations of individuals' eligibility for disaster assistance programs.

(e) State files, independently kept by the State, which contains records of persons who request disaster aid, specifically for IFG and its successor program, ONA, and administrative files and reports required by FEMA. As to individuals, the State keeps the same type of information as described above under registration, inspection, and temporary housing assistance records. As to administrative files and reporting requirements, the State uses forms 76-27, 76-28, 76-30, 76-32, 76-34, 76-35, and 76-38. This collection of information is essential to the effective monitoring and management of the IFG and the ONA Program by FEMA's Regional Office staff who have the oversight responsibility of ensuring that the State perform and adhere to FEMA regulations and policy guidance.

Authority for Maintenance of the System:

Robert T. Stafford Disaster Relief and Emergency Assistance Act, 42 U.S.C. 5121-5206 and Reorganization Plan No. 3 of 1978.

Purpose(s):

To register applicants needing disaster assistance, to inspect damaged homes, to verify information provided by each applicant, to make eligibility determinations regarding an applicant's request for assistance, and to identify and implement measures to reduce future disaster damage.

Routine uses of records maintained in the system, including categories of users and the purposes of such uses:

(a) FEMA may disclose applicant information to certain agencies as necessary and as described below to prevent a duplication of efforts or a duplication of benefits in determining eligibility for disaster assistance. FEMA shall only release as much information as is necessary to enable the recipient agency to determine eligibility for that agency's particular assistance program(s). The receiving agency is not permitted to alter or to further disclose our disclosed records to other disaster organizations. FEMA may make such disclosures under the following circumstances:

(1) To another Federal agency or State government agency charged with administering disaster relief programs to make available any additional Federal and State disaster assistance to individuals and households.

(2) When an applicant seeks assistance from a local government agency or a voluntary organization (as defined at 44 CFR 206.2(a)(27), as amended or superseded) charged under legislation or charter with administering disaster relief programs, and FEMA receives a written request from that local government or voluntary agency that includes the applicant's name, FEMA registration/application number and damaged dwelling address. The written request must explain the type of tangible assistance being offered and the type of verification required before the assistance can be provided.

(3) To voluntary organizations (as defined at 44 CFR 206.2(a)(27), as amended or superseded) that have an established disaster assistance program to address the disaster-related unmet needs of disaster victims, are actively involved in the recovery efforts of the disaster, and either have a national membership, in good standing, with the National Voluntary Organizations Active in Disaster (NVOAD), or are participating in the disaster's Long-Term Recovery Committee. When a voluntary agency satisfies all of the criteria listed in this sub-paragraph, FEMA may release lists of individuals' names, contact information, and their FEMA inspected loss amount to the volunteer agency for the sole purpose of providing additional disaster assistance. FEMA shall release this information only while the period for assistance for the current disaster is open.

(b) When an individual's eligibility, in whole or in part, for a DHS/FEMA disaster assistance program depends upon benefits already received or available from another source for the same purpose, FEMA may disclose information to relevant agencies, organizations, and institutions as necessary to determine what benefits are available from another source and to prevent the duplication of disaster assistance benefits (as described in section 312 of the Stafford Act).

(c) In response to a written request, FEMA may disclose information from this system of records to Federal, State, or local government agencies charged with the implementation of hazard mitigation measures and the enforcement of hazard-specific provisions of building codes, standards, and ordinances. FEMA may only disclose information for the following purposes:

(1) For hazard mitigation planning purposes to assist States and local communities in identifying high-risk areas and preparing mitigation plans that target those areas for hazard mitigation projects implemented under Federal, State or local hazard mitigation programs.

(2) For enforcement purposes, to enable State and local communities to ensure that owners repair or rebuild structures in conformance with applicable hazard-specific building codes, standards, and ordinances.

(d) Pursuant to the Debt Collection Improvement Act of 1996, 31 U.S.C. 3325(d) and 7701(c)(1), FEMA is required to collect and release to the United States Department of the Treasury the social security number of the person doing business with FEMA, including an applicant for a grant. Therefore, FEMA will release an applicant's social security number in connection with a request for payment to the U.S. Treasury in order to provide a disaster assistance payment to an applicant under the Individual Assistance program.

(e) FEMA may provide a list of applicants' names, amounts of assistance provided, and related information to a State in connection with billing that State for the applicable non-Federal cost share under the Individuals and Households Program.

(f) When an applicant is occupying a FEMA Temporary Housing unit, FEMA may release only the location of the FEMA Temporary Housing unit to local emergency managers for the sole purpose of preparing emergency evacuation plans. FEMA shall not release any information on an individual, such as their name, type or amount of disaster assistance received.

(g) Routine Use—Investigations: Where a record, either on its face or in conjunction with other information, indicates a violation or potential violation of law—criminal, civil or regulatory—the relevant records may be referred to an appropriate Federal, State, territorial, tribal, local, international, or foreign agency law enforcement authority or other appropriate agency charged with investigating or prosecuting such a violation or enforcing or implementing such law.

(h) Routine Use—Requesting Information: To a Federal, State, local, tribal, territorial, foreign, or international agency, if necessary to obtain information relevant to a DHS decision concerning the hiring or retention of an employee, the issuance of a security clearance, the reporting of an investigation of an employee, the letting of a contract, or the issuance of a license, grant or other benefit.

(i) Routine Use—Requested Information: To a Federal, State, local, tribal, territorial, foreign, or international agency, in response to its request, in connection with the hiring or retention of an employee, the issuance of a security clearance, the reporting of an investigation of an employee, the letting of a contract, or the issuance of a license, grant, or other benefit by the requesting agency, to the extent that the information is relevant and necessary to the requesting agency's decision on the matter.

(j) Routine Use—Congressional Inquiries: To a congressional office from the record of an individual in response to an inquiry from that congressional office made at the request of the individual to whom the record pertains.

(k) Routine Use—Private Relief Legislation: To OMB at any stage of the legislative coordination and clearance process set out in OMB Circular No. A-19.

(l) Routine Use—National Archives and Records Administration: To the National Archives and Records Administration or other Federal Government agencies pursuant to records management inspections being conducted under the authority of 44 U.S.C. sections 2904 and 2906.

(m) Routine Use—Audits and Oversight: To an agency, organization, or individual for the purposes of performing authorized audit or oversight operations.

(n) Routine Use—Contractors, et al.: To contractors, grantees, experts, consultants, students, and others performing or working on a contract, service, grant, cooperative agreement, or other assignment for the Federal Government, when necessary to accomplish an agency function related to this system of records.

(o) Routine Use—Debt Collection: To the Department of the Treasury, Justice, the United States Attorney's Office, or a consumer reporting agency for further collection action on any delinquent debt when circumstances warrant.

(p) Routine Use—Freedom of Information Act (FOIA) Discussions with Other Agencies Regarding DHS Documents and Vice Versa: To a Federal agency or entity that furnished the record or information for the purpose of permitting that agency or entity to make a decision regarding access to or correction of the record or information, or to a Federal agency or entity for purposes of providing guidance or advice regarding the handling of particular requests.

(q) Routine Use—Litigation: To the Department of Justice (DOJ) or other Federal agency conducting litigation or in proceedings before any court, adjudicative or administrative body, when: (1) DHS, or (2) any employee of DHS in his/her official capacity, or (3) any employee of DHS in his/her individual capacity where DOJ or DHS has agreed to represent the employee, or (4) the United States or any agency thereof, is a party to the litigation or has an interest in such litigation.

(r) Routine Use—Privacy Act Verification and Amendment: To a Federal, State, territorial, tribal, local, international, or foreign agency or entity for the purpose of consulting with that agency or entity (1) to assist in making a determination regarding access to or amendment of information, or (2) for the purpose of verifying the identity of an individual or the accuracy of information submitted by an individual who has requested access to or amendment of information.

(s) Routine Use—Privacy Act/FOIA Access and Amendment: To the submitter or subject of a record or information to assist DHS in making a determination as to access or amendment.

Disclosure to consumer reporting agencies:

Disclosure under 5 U.S.C. 552a(b)(12): FEMA may make disclosures from this system to consumer reporting agencies, as defined in the Fair Credit Reporting Act, 15 U.S.C. Section 1681a(f), or the Debt Collection Act of 1982, 31 U.S.C. Section 3711(e).

Policies and practices for storing, retrieving, accessing, retaining, and disposing of records in the system:

STORAGE:

Interactive database, computer discs, and paper records in file folders.

Retrievability:

By an individual's name, address, social security number, and case file number.

Safeguards:

Only authorized individuals and FEMA employees have access to this information. Hardware and software computer security measures are used to control access to the data. Access to the data is based upon an individual's position in FEMA and/or their designated duties. Individuals are assigned specific “rights” or specific access (e.g., read only, modify, delete, etc.). The access granted is based upon an individual's position responsibilities for “official use” only. FEMA employees are allowed access to the data as a function of their specific job assignments within their respective organizations. Each FEMA employee's access to the data is restricted to that needed to carry out their duties.

No individual applying for disaster assistance will have access to the entire database via the Internet. Applicants will have limited access to only their own information that they submitted via the Internet, and to the status of their own information regarding the processing of their own application (e.g. the status of required documentation, inspection status, or SBA status). Applicants are provided a Logon id, password, and Personal Identification Number (PIN) that connect only to the applicant's data. The password and PIN ensures that the login id belongs to the applicant. Computer security software ensures that the login id is mapped only to the applicant's data. Applicants will have access to only their own application information after FEMA assigns them a properly authenticated user id, password, and PIN. Applicants will be registered and authenticated in accordance with National Institute of Standards and Technology Level 2 Assurance guidelines.

Retention and Disposal:

Records covered by paragraphs (a) through (d) are covered by Records Schedule N1-311-86-1 4C10a and are destroyed after 6 years and 3 months. Records covered by paragraph (e) are covered by Records Schedules N1-311-86-1 4C7 and/or N1-311-86-1 4C10b and are destroyed 3 years after closeout.

System Manager(s) and Address:

Division Director, Recovery Division, FEMA, 500 C Street SW., Washington, DC 20472 and applicable Regional Directors, as listed in Appendix A(1).

Notification Procedure:

Requests for Privacy Act protected information generally are governed by DHS regulations found at 6 CFR Part 5 and FEMA's regulations at 44 CFR Part 6. They must be made in writing, and clearly marked as a “Privacy Act Request” on the envelope and letter. Inquiries should be addressed to FEMA—Records Management, National Processing Service Center, P.O. Box 10055 Hyattsville, MD 20782-7055. Include the full name of the individual, the appropriate personal identification, and the current address. The name of the requester, the nature of the record sought, and the verification of identity must be clearly indicated, as required by DHS regulation 6 CFR 5.21 and FEMA regulation at 44 CFR 6.30. Requests may also be sent to: Privacy Act Officer, DHS/FEMA Office of General Counsel (GL), room 840, 500 C Street, SW., Washington, DC 20472.

Record Access Procedures:

Same as the Notification Procedure above.

Contesting record procedure:

Same as the Notification Procedure above. The letter should state clearly and concisely what information you are contesting, the reasons for contesting it, and the proposed amendment to the information that you seek pursuant to DHS Privacy Act regulations at 6 CFR Part 5 and FEMA regulations at 44 CFR Part 6.

Record Source Categories:

Applicants for disaster recovery assistance, credit rating bureaus, financial institutions, insurance companies, and state, local and voluntary agencies providing disaster relief.

Exemptions Claimed For the System:

None.

Dated: November 9, 2004.
David A. Trissell,
General Counsel, Emergency Preparedness and Response, Department of Homeland Security.

Appendix A (1)

Addresses for FEMA Regional Offices

Region I—Regional Director, FEMA, 99 High Street, 6th Floor, Boston, MA 02110;

Region II—Regional Director, FEMA, 26 Federal Plaza, New York, NY 10278-0002;

Region III—Regional Director, FEMA, One Independence Mall, 615 Chestnut Street, Philadelphia, PA 19106-4404;

Region IV—Regional Director, FEMA, 3003 Chamblee-Tucker Road, Atlanta, GA 30341;

Region V—Regional Director, FEMA, 536 S. Clark Street, Chicago, IL 60605;

Region VI—Regional Director, FEMA, Federal Center, 800 North Loop 288 Denton, TX 76209;

Region VII—Regional Director, FEMA, 2323 Grand Boulevard, Kansas City, MO 64108-2670;

Region VIII—Regional Director, FEMA, Denver Federal Center, Building 710, Box 25267, Denver, CO 80225-0267;

Region IX—Regional Director, FEMA, 1112 Broadway St. Oakland, CA 94607;

Region X—Regional Director, FEMA, Federal Regional Center, 130 228th Street, SW., Bothell, WA 98021-9796;

[FR Doc. 04-25284 Filed 11-12-04; 8:45 am]

BILLING CODE 9110-10-P